DEPARTMENT OF ENERGY

Aluminum Visions of the Future Funding Opportunity Announcement

AGENCY: Golden Field Office, U.S. Department of Energy.

ACTION: Notice of issuance of funding opportunity announcement.

SUMMARY: The U.S. Department of Energy (DOE) is announcing its intention to seek applications for cost-shared research and development of technologies which will reduce energy consumption, reduce environmental impacts and enhance economic competitiveness of the domestic aluminum industry. The research is to address research priorities identified by the aluminum industry in the Aluminum Industry Technology Roadmap and the Inert Anode Roadmap (available at the following URL: http://www.oit.doe.gov/aluminum/visions.shtml.) Potential benefits of the research must be realized in manufacturing processes, not in end-use applications.

DATES: The funding opportunity announcement was issued March 22, 2004.

ADDRESSES: To obtain a copy of the announcement, interested parties should access the DOE Golden Field Office home page at http://www.go.doe.gov/funding.html, click on the word “access.” The link will open the Industry Interactive Procurement System (IIPS) web site and provide instructions on using IIPS. The Announcement can also be obtained directly through IIPS at http://e-center.doe.gov by browsing opportunities by Contract Activity, for those announcements issued by the Golden Field Office. DOE will not issue paper copies of the announcement.

IIPS provides the medium for disseminating announcements, receiving financial assistance applications, and evaluating the applications in a paperless environment. The application may be submitted in the Industry Interactive Procurement System (IIPS) by the applicant or a designated representative that receives authorization from the applicant; however, the application documentation must reflect the name and title of the representative authorized to enter the applicant into a legally binding contract or agreement. The applicant or the designated representative must first register in IIPS, entering their first name and last name, then entering the company name/address of the applicant.

For questions regarding the operation of IIPS, contact the IIPS Help Desk at IIPS_HelpDesk@e-center.doe.gov or at (800) 683-0751.

FOR FURTHER INFORMATION CONTACT: DOE Golden Field Office, 1617 Cole Boulevard, Golden, CO 80401-3393 or via facsimile to at (303) 275-4788, or electronically to aluminum@go.doe.gov.

Issued in Golden, Colorado, on March 22, 2004.
Jerry L. Zimmer,
Director, Office of Acquisition and Financial Assistance.

[FR Doc. 04-6914 Filed 3-26-04; 8:45 am]

BILLING CODE 6450-01-P